DEPARTMENT OF COMMERCE

Economic Development Administration

[Docket No.: 0810151367-81368-01]

Solicitation of Applications for the National Technical Assistance, Training, Research and Evaluation Program: Economic Development Research Project: Regional Innovation Systems

AGENCY: Economic Development Administration, Department of Commerce.

ACTION: Notice and request for applications.

SUMMARY: The Economic Development Administration (EDA) is resoliciting applications for a regional innovation systems research project under FY 2009 National Technical Assistance, Training, Research and Evaluation program (NTA Program) funding. Under a FY 2008 competition, EDA funded two projects under the regional innovation systems research topic. EDA now is interested in making another award exploring regional innovation systems in an additional geographic location.

DATES: To be considered timely, a completed application, regardless of the format in which it is submitted, must be either: (1) Received by the EDA representative listed below under “Paper Submissions” no later than November 17, 2008 at 5 p.m. Eastern Time; (2) transmitted and time-stamped at http://www.grants.gov no later than November 17, 2008 at 5 p.m. Eastern Time; or (3) electronically transmitted to the e-mail address of the Program Analyst listed below under “Electronic Submissions” no later than November 17, 2008 at 5 p.m. Eastern Time. Any application received or transmitted, as the case may be, after 5 p.m. Eastern Time on November 17, 2008 will be considered non-responsive and will not be considered for funding. Please see the instructions below under “Application Submission Requirements” for information regarding format options for submitting completed applications. Because this announcement solicits applications for a single research project and it is anticipated that a single award will be made, EDA expects to notify the applicant selected for investment assistance under this notice by December 26, 2008. The selected applicant should expect to receive project funding within thirty days of EDA's notification of selection.

Applicants choosing to submit completed applications electronically through http://www.grants.gov should follow the instructions set out below under “Electronic Access” and in section IV.D. of the complete Federal Funding Opportunity (FFO) announcement for this request for applications.

Application Submission Requirements: On October 1, 2008, EDA published a notice in the Federal Register (73 FR 57049) to introduce its new, streamlined Application for Investment Assistance (Form ED-900), which consolidates all EDA-specific requirements into a single application form. Applicants are advised to read carefully the instructions contained in section IV. of the complete FFO announcement for this request for applications, which sets out EDA's updated application requirements. The FFO announcement may be accessed on EDA's Internet Web site at http://www.eda.gov/InvestmentsGrants/FFON.xml and at http://www.grants.gov.

Applications may be submitted in either of two formats: (i) In paper format at the address provided below under “Paper Submissions;” or (ii) electronically in accordance with the procedures provided on http://www.grants.gov or submitted via e-mail to the address provided below under “Electronic Submissions.” EDA will not accept facsimile transmissions of applications. The content of the application is the same for paper submissions as it is for electronic submissions. A complete application must contain all the items that comprise a complete application package, as set out in section IV.A. of the FFO announcement. Regardless of the method of transmission, applicants are solely responsible for ensuring that EDA receives complete, accurate, and timely applications.

You may obtain a paper application package by contacting the designated point of contact listed below under FOR FURTHER INFORMATION CONTACT. Applicants applying electronically through http://www.grants.gov may access the application package by following the instructions provided on http://www.grants.gov. Additionally, applicants may download a complete application package from EDA's Web site at http://www.eda.gov/InvestmentsGrants/Application.xml.

Paper Submissions: Full or partial paper (hardcopy) applications submitted under the NTA program may be hand-delivered or mailed to: FY 2009 Economic Development Research Project Competition: Regional Innovation Systems, Kerstin Millius, Program Analyst, Economic Development Administration, U.S. Department of Commerce, 1401 Constitution Avenue, NW., Room 7009, Washington, DC 20230.

Applicants are advised that, due to mail security measures, EDA's receipt of mail sent via the United States Postal Service may be substantially delayed or suspended in delivery. Applicants may wish to use a guaranteed overnight delivery service.

Electronic Submissions: Applicants have two options for submitting electronically: Through http://www.grants.gov or via e-mail. Applicants may submit applications in accordance with the instructions provided at http://www.grants.gov and in section IV.D. of the applicable FFO announcement. EDA strongly encourages that applicants not wait until the application closing date to begin the application process through http://www.grants.gov. Applicants also may submit applications by e-mail. Completed applications may be e-mailed to Kerstin Millius, Program Analyst, at kmillius@eda.doc.gov. The preferred file format for electronic attachments is portable document format (PDF); however, EDA will accept electronic files in Microsoft Word, WordPerfect, or Microsoft Excel formats.

FOR FURTHER INFORMATION CONTACT: For additional information on the NTA Program or to obtain a paper application package for this notice, please contact Kerstin Millius, Program Analyst, via e-mail at kmillius@eda.doc.gov (preferred) or by telephone at (202) 482-3280.

For additional information regarding electronic submissions, please access the following link for assistance in navigating http://www.grants.gov and for a list of useful resources: http://www.grants.gov/applicants/applicant_help.jsp. If you do not find an answer to your question under Frequently Asked Questions, try consulting the Applicant's User Guide at http://www.grants.gov/applicants/app_help_reso.jsp. If you still cannot find an answer to your question, contact http://www.grants.gov via e-mail at support@grants.gov or telephone at ­1-800-518-4726. The hours of operation for http://www.grants.gov are Monday-Friday, 7 a.m. to 9 p.m. Eastern Time (except for federal holidays).

Additional information about EDA and its NTA Program may be obtained from EDA's Web site at http://www.eda.gov. The complete FFO announcement for this request for applications is available at http://www.grants.gov and at http://www.eda.gov/InvestmentsGrants/FFON.xml.

SUPPLEMENTARY INFORMATION: Background Information: On March 14, 2008, EDA published an FFO and accompanying Federal Register notice (73 FR 13844) to solicit applications for funding under its NTA Program that addressed one or more of the following three projects: (a) Regional innovation systems; (b) urban economic development policy; and (c) global economic development strategy. The deadline for receipt of applications closed May 9, 2008 at 5 p.m. Eastern Time. After completing its review of submitted applications, EDA funded projects under each research topic, including two awards under the regional innovation systems project. One successful recipient was located in West Virginia and the other was in California, and both of these successful projects highlight regional economies in those respective areas.

EDA now is interested in making another award exploring regional innovation systems in an additional geographic location. Through this notice, EDA solicits applications for funding that address only the regional innovation systems research topic. EDA advises applicants to read carefully the description of the research project as EDA has provided information on important requirements that were not included in the earlier FFO announcement and March 14, 2008 Federal Register notice.

EDA will not review applications submitted under the previous announcement. Therefore, to be considered for funding under this notice, all applications must comply with the new program and application requirements as set out in the complete FFO announcement for this request for applications. Any applicant that submitted an application under the previous FFO announcement must submit a new and complete application if it wishes to be considered for funding. If an applicant submits more than one application under this announcement, EDA will evaluate only the first application received and will consider subsequent applications non-responsive.

There are five deliverables under this competitive solicitation: (1) A comparative analysis; (2) research and analysis of best-practice case-studies; (3) development of a communication and dissemination strategy for project findings; (4) a practitioner-accessible report or equivalent document that presents project findings; and (5) delivery of the practitioner-accessible report or equivalent document to EDA in a format suitable for posting on EDA's Web site and of all data and other materials used in the analysis. Any information disseminated to the public under this request for applications is subject to the Information Quality Act (Pub. L. No. 106-554). Applicants are required to comply with the Information Quality Guidelines issued by EDA pursuant to the Information Quality Act, which are designed to ensure and maximize the quality, objectivity, utility and integrity of information disseminated by EDA. These guidelines are available on EDA's Web site at http://www.eda.gov.

Electronic Access: The complete FFO announcement for this FY 2009 Economic Development Research Project competition is available at http://www.grants.gov and at http://www.eda.gov/InvestmentsGrants/FFON.xml.

Funding Availability: EDA is operating with appropriations made available under the Consolidated Security, Disaster Assistance, and Continuing Appropriations Act, 2009, Public Law No. 110-329 (September 30, 2008). This Act makes available appropriations in an amount based on FY 2008 funding levels that are pro-rated through March 6, 2009 for the economic development assistance programs authorized by the Public Works and Economic Development Act of 1965, as amended (42 U.S.C. 3121 et seq.) (PWEDA) and for the Trade Adjustment Assistance for Firms program authorized under the Trade Act of 1974, as amended (19 U.S.C. 2341-2355, 2391). At FY 2008 funding levels, EDA estimates that the regional innovation systems project will be funded in an amount ranging from $200,000 to $300,000.

Statutory Authority: The authority for the NTA Program is PWEDA. The specific authority for the Economic Development Research Projects Program is section 207 of PWEDA (42 U.S.C. 3147), which authorizes EDA to make grants for grants for training, research, and technical assistance. EDA's regulations at 13 CFR parts 300-302 and subpart A of 13 CFR part 306 set forth the general and specific regulatory requirements applicable to the NTA Program. EDA's regulations are codified at 13 CFR chapter III. The regulations and PWEDA are accessible on EDA's Internet Web site at http://www.eda.gov/InvestmentsGrants/Lawsreg.xml.

Catalog of Federal Domestic Assistance (CFDA) Number: 11.312, Economic Development—Research and Evaluation.

Applicant Eligibility: Pursuant to PWEDA, eligible applicants for and recipients of EDA investment assistance include a District Organization; an Indian Tribe or a consortium of Indian Tribes; a State; a city or other political subdivision of a State, including a special purpose unit of a State or local government engaged in economic or infrastructure development activities, or a consortium of political subdivisions; an institution of higher education or a consortium of institutions of higher education; and a public or private non-profit organization or association.

Project Period: Typically, EDA gives a recipient one year from the award date to complete the scope of work, which consists of research and associated research activities, composing the resulting report, and presenting the report to EDA senior management. A typical research project period begins with an initial meeting between the recipient and EDA staff to ensure that all parties agree with the project terms. After the initial meeting, the recipient generally submits a final work plan to EDA staff for review and approval. Throughout the project period there will be regular contact between EDA staff and the recipient for updates on project progress. Also, interim progress reports will be required throughout the project period. The schedule of interim progress reports will be determined subsequent to award.

Typically, the recipient submits a draft research report to EDA at least 90 days before the end of the project period for EDA's review. If the draft research report is approved, EDA will approve publication of a final research report, and the recipient will brief EDA senior management on research methods and report results.

Cost Sharing Requirement: Generally, the amount of the EDA grant may not exceed fifty percent of the total cost of the project. Projects may receive an additional amount that shall not exceed thirty percent, as determined by EDA, based on the relative needs of the region in which the project will be located. See section 204(a) of PWEDA (42 U.S.C. 3144) and 13 CFR 301.4(b)(1). The Assistant Secretary of Commerce for Economic Development has the discretion to establish a maximum EDA investment rate of up to one-hundred percent where the project (i) merits and is not otherwise feasible without an increase to the EDA investment rate; or (ii) will be of no or only incidental benefit to the recipient. See section 204(c)(3) of PWEDA (42 U.S.C. 3144) and 13 CFR 301.4(b)(4).

EDA will consider the nature of the contribution (cash or in-kind), the amount of any matching share funds, and fairly assess any in-kind contributions in evaluating the cost to the Government and the feasibility of the project budget (see the “Evaluation Criteria” section below). While cash contributions are preferred, in-kind contributions, fairly evaluated by EDA, may provide the non-federal share of the total project cost. See section 204(b) of PWEDA (42 U.S.C. 3144) and section III.B. of the FFO announcement for this request for applications. In-kind contributions, which may include assumptions of debt and contributions of space, equipment, and services, are eligible to be included as part of the non-federal share of eligible project costs if they meet applicable federal cost principles and uniform administrative requirements. Funds from other federal financial assistance awards are considered matching share funds only if authorized by statute, which may be determined by EDA's reasonable interpretation of the statute. See 13 CFR 300.3. The applicant must show that the matching share is committed to the project for the entire project period, will be available as needed, and is not conditioned or encumbered in any way that precludes its use consistent with the requirements of EDA investment assistance. See 13 CFR 301.5.

Intergovernmental Review: Applications under the NTA Program are not subject to Executive Order 12372, “Intergovernmental Review of Federal Programs.”

Evaluation and Selection Procedures: To apply for an award under this request for applications, an eligible applicant must submit a completed application package to EDA before the closing date and time specified in the “Dates” section of this notice, and in the manner provided in section IV. of the applicable FFO announcement. Any application received or transmitted, as the case may be, after 5 p.m. Eastern Time on November 17, 2008 will not be considered for funding. Applications that do not include all items required or that exceed the page limitations set forth in section IV.B. of the FFO announcement will be considered non-responsive and will not be considered by the review panel. Because this announcement solicits applications for a single research project and it is anticipated that a single award will be made, EDA expects to notify the applicant selected for funding by December 26, 2008. Unsuccessful applicants will be notified that their applications were not selected for funding. Applications that meet all the requirements will be evaluated by a review panel comprised of at least three EDA staff members, all of whom will be full-time federal employees.

Evaluation Criteria: The review panel will evaluate the applications and rate and rank them using the following criteria of approximate equal weight:

(1) Conformance with EDA's statutory and regulatory requirements, including the extent to which the proposed project satisfies the award requirements set out below and as provided in 13 CFR 306.2:

• Strengthens the capacity of local, State, or national organizations and institutions to undertake and promote effective economic development programs targeted to regions of distress;

• Benefits distressed regions; and

• Demonstrates innovative approaches to stimulate economic development in distressed regions.

(2) The degree to which an EDA investment will have strong organizational leadership, relevant project management experience, and a significant commitment of human resources talent to ensure the project's successful execution (see 13 CFR 301.8(b)).

(3) The ability of the applicant to implement the proposed project successfully (see 13 CFR 301.8).

(4) The feasibility of the budget presented.

(5) The cost to the Federal Government.

Also, the addition of research and project data to an existing Web site or the design of a companion Web site designed to disseminate research results and provide links to data encapsulated in the report free of charge is preferred.

Selection Factors: The Assistant Secretary, as the Selecting Official, expects to fund the highest ranking applications, as recommended by the review panel, submitted under this request for applications. However, if EDA does not receive satisfactory applications, the Assistant Secretary may not make any selection. Depending on the quality of the applications received, the Assistant Secretary may select more than one application for one research project and make no selection for another research project. Also, he may select an application out of rank order for the following reasons: (1) A determination that the selected application better meets the overall objectives of sections 2 and 207 of PWEDA (42 U.S.C. 3121 and 3147); (2) the applicant's performance under previous awards; or (3) the availability of funding.

The Department of Commerce Pre-Award Notification Requirements for Grants and Cooperative Agreements

Administrative and national policy requirements for all Department of Commerce awards are contained in the Department of Commerce Pre-Award Notification Requirements for Grants and Cooperative Agreements, published in the Federal Register on February 11, 2008 (73 FR 7696). This notice may be accessed through the Federal Register Internet Web site at http://www.gpoaccess.gov/fr/retrieve.html, making sure the radial button for the correct Federal Register volume is selected (in this instance, 2008 Federal Register, Vol. 73), entering the Federal Register page number provided in the previous sentence (7696), and clicking the “Submit” button.

Paperwork Reduction Act

This request for applications contains collections of information subject to the requirements of the Paperwork Reduction Act (PRA). The use of Form ED-900 (Application for Investment Assistance) has been approved by OMB under the control number 0610-0094. The use of Forms SF-424 (Application for Financial Assistance), SF-424A (Budget Information—Non-Construction Programs), SF-424B (Assurances—Non-Construction Programs), SF-424C (Budget Information—Construction Programs), SF-424D (Assurances—Construction Programs), and SF-LLL Disclosure of Lobbying Activities (SF-LLL) has been approved under OMB control numbers 4040-0004, 4040-0006, 4040-0007, 4040-0008, 4040-0009, and 0348-0046, respectively. The use of Form CD-346 has been approved under OMB control number 0605-0001. Notwithstanding any other provision of law, no person is required to respond to, nor shall any person be subject to a penalty for failure to comply with, a collection of information subject to the requirements of the PRA unless the collection of information displays a currently valid OMB control number.

Executive Order 12866

This notice has been determined to be not significant for purposes of Executive Order 12866, “Regulatory Planning and Review.”

Executive Order 13132

It has been determined that this notice does not contain “policies that have Federalism implications,” as that phrase is defined in Executive Order 13132, “Federalism.”

Administrative Procedure Act/Regulatory Flexibility Act

Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and none has been prepared.

Dated: October 27, 2008.
Otto Barry Bird,
Chief Counsel, Economic Development Administration.

[FR Doc. E8-26029 Filed 10-30-08; 8:45 am]

BILLING CODE 3510-24-P